DEPARTMENT OF THE INTERIOR

National Park Service

[NPS-WASO-NAGPRA-23460; PPWOCRADN0-PCU00RP14.R50000]

Notice of Intent To Repatriate Cultural Items: The Museum of Anthropology at Washington State University, Pullman, WA

AGENCY: National Park Service, Interior.

ACTION: Notice.

SUMMARY: The Museum of Anthropology at Washington State University, in consultation with the appropriate Indian tribes or Native Hawaiian organizations, has determined that the cultural items listed in this notice meet the definition of unassociated funerary objects. Lineal descendants or representatives of any Indian tribe or Native Hawaiian organization not identified in this notice that wish to claim these cultural items should submit a written request to the Museum of Anthropology at Washington State University. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Museum of Anthropology at Washington State University at the address in this notice by August 23, 2017.

ADDRESSES: Mary Collins, Director Emeritus, Museum of Anthropology Washington State University, Pullman, WA 99164-4910 telephone, (509) 592-6929, email collinsm@wsu.edu.

SUPPLEMENTARY INFORMATION: Notice is here given in accordance with the Native American Graves Protection and Repatriation Act (NAGPRA), 25 U.S.C. 3005, of the intent to repatriate cultural items under the control of the Museum of Anthropology at Washington State University, Pullman, WA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1970, an unknown number of human remains and cultural items were removed from site 45AS8 in Asotin County, WA. Thirteen historic era burials were archeologically excavated from site 45AS8 as part of a highway relocation project. At that time, most of the human remains and associated funerary objects were reburied on the Nez Perce Reservation at the Old Spalding Cemetery in Spalding, ID. In 2013, the remaining 47 (unassociated) funerary objects that were determined to be from 45AS8 were located in storage at the Museum of Anthropology at Washington State University. The 47 unassociated funerary objects are 8 lots of flakes; 2 nails; 3 lots of small unidentifiable bone fragments; 4 lots of glass beads; 23 lots of coffin fragments; 3 lots of metal fragments; and 4 lots of buttons.

Determinations Made by the Museum of Anthropology at Washington State University

Officials of the Museum of Anthropology at Washington State University have determined that:

• Pursuant to 25 U.S.C. 3001(3)(B), the 47 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Confederated Tribes of the Colville Reservation and Nez Perce Tribe (previously listed as the Nez Perce Tribe of Idaho).

Additional Requestors and Disposition

Lineal descendants or representatives of any Indian tribe or Native Hawaiian organization not identified in this notice that wish to claim these cultural items should submit a written request with information in support of the claim to Mary Collins, Director Emeritus, the Museum of Anthropology at Washington State University, Pullman, WA 99164-4910 telephone (509) 592-6929, email collinsm@wsu.edu, by August 23, 2017. After that date, if no additional claimants have come forward, transfer of control of the unassociated funerary objects to the Confederated Tribes of the Colville Reservation and Nez Perce Tribe (previously listed as the Nez Perce Tribe of Idaho) may proceed.

The Museum of Anthropology at Washington State University is responsible for notifying the Confederated Tribes of the Colville Reservation and Nez Perce Tribe (previously listed as the Nez Perce Tribe of Idaho) that this notice has been published.

Dated: May 24, 2017.
Melanie O'Brien,
Manager, National NAGPRA Program.

[FR Doc. 2017-15467 Filed 7-21-17; 8:45 am]

BILLING CODE 4312-52-P